DEPARTMENT OF JUSTICE

[OMB Number 1140-0019]

Agency Information Collection Activities; Proposed eCollection eComments Requested; Extension of a Previously Approved Collection; Federal Firearms License (FFL) Renewal Application—ATF Form 8 (5310.11) Part II

AGENCY: Bureau of Alcohol, Tobacco, Firearms and Explosives, Department of Justice.

ACTION: 60-Day notice.

SUMMARY: The Bureau of Alcohol, Tobacco, Firearms and Explosives (ATF), Department of Justice (DOJ), will be submitting the following information collection request to the Office of Management and Budget (OMB) for review and approval in accordance with the Paperwork Reduction Act of 1995.

DATES: Comments are encouraged and will be accepted for 60 days until September 25, 2023.

FOR FURTHER INFORMATION CONTACT: If you have additional comments especially on the estimated public burden or associated response time, suggestions, or need a copy of the proposed information collection instrument with instructions or additional information, contact: Leslie Anderson, ATF-FFLC, by mail at 244 Needy Road, Martinsburg, WV 25405, by email at Leslie.anderson@atf.gov, or telephone at 304-616-4634.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The Federal Firearms License Renewal Application—ATF Form 8 (5310.11) Part II is used by members of the public to renew a Federal firearms license (FFL). The collected information is used to identify the FFL business premises and/or collection activity, and also to determine the applicant's eligibility for FFL renewal.

Overview of this information collection:

1. Type of Information Collection: Extension of a previously approved collection.

2. The Title of the Form/Collection: Federal Firearms License (FFL) Renewal Application.

3. The agency form number, if any, and the applicable component of the Department sponsoring the collection: Form number: ATF Form 8 (5310.11) Part II. Component: Bureau of Alcohol, Tobacco, Firearms and Explosives, U.S. Department of Justice.

4. Affected public who will be asked or required to respond, as well as the obligation to respond: Affected Public: Business or other for-profit, Individuals or households. The obligation to respond is mandatory. The statutory requirements are implemented in Title 18 U.S.C. section, Chapter 44.

5. An estimate of the total number of respondents and the amount of time estimated for an average respondent to respond: An estimated 33,500 respondents will complete this form once annually, and it will take each respondent approximately 30 minutes to complete their responses.

6. An estimate of the total annual burden (in hours) associated with the collection: The estimated annual public burden associated with this collection is 16,750 hours, which is equal to 33,500 (total respondents) * 1 (# of response per respondent) * .5 (20 minutes).

7. An estimate of the total annual cost burden associated with the collection, if applicable: There is no annualized capital/startup cost associated with this collection. However, the annual cost has increased due to a change in the postal rate from $0.55 during the last renewal in 2019, to $0.63 in 2023. Consequently, the new public cost burden will be reported as $21,105.00, which is equal to $0.63 (mailing cost per respondent) * 33,500 (# of respondents).

Total Burden Hours
Activity | Number of respondents | Frequency | Total annual responses | Time per response | Total annual burden (hours)
ATF Form 8 (5310.11) Part II | 33,500 | 1/annually | 33,500 | 30 min | 16,750 hrs.

If additional information is required contact: Darwin Arceo, Department Clearance Officer, United States Department of Justice, Justice Management Division, Policy and Planning Staff, Two Constitution Square, 145 N Street, NE, 4W-218, Washington, DC.

Dated: July 19, 2023.
Darwin Arceo,
Department Clearance Officer for PRA, U.S. Department of Justice.

[FR Doc. 2023-15735 Filed 7-24-23; 8:45 am]

BILLING CODE 4410-FY-P